OFFICE OF THE UNITED STATES TRADE REPRESENTATIVE

Notice of Continuation and Request for Nominations for the Trade and Environment Policy Advisory Committee

AGENCY: Office of the United States Trade Representative.

ACTION: Notice of renewal of the charter and request for nominations.

SUMMARY: The Office of the United States Trade Representative (USTR), pursuant to Section 135 of the Trade Act of 1974 (19 U.S.C. 2155(c)(1)) as amended, and the Federal Advisory Committee Act (5 U.S.C. App. II), expects to establish a new two-year charter term and is accepting applications from qualified individuals interested in serving as a member of the Trade and Environment Policy Advisory Committee (TEPAC). The TEPAC is a trade advisory committee that provides general policy advice and guidance to the U.S. Trade Representative on trade policy matters that have a significant impact on the environment.

DATES: In order to receive full consideration, applications should be received no later than three weeks from this filing. Nominations will be accepted after that date on a rolling basis as vacancies arise until the expiration of the charter term, which is on September 30, 2027.

ADDRESSES: Submissions should be sent as one PDF document to the Office of the U.S. Trade Representative, Office of Intergovernmental Affairs and Public Engagement at MBX.USTR.IAPE@USTR.eop.gov.

FOR FURTHER INFORMATION CONTACT: Jennifer Bang, Assistant U.S. Trade Representative for Intergovernmental Affairs and Public Engagement, Jennifer.D.Bang@ustr.eop.gov, and Amanda Mayhew, Deputy Assistant U.S. Trade Representative for Environment and Natural Resources, Amanda.B.Mayhew@ustr.eop.gov.

SUPPLEMENTARY INFORMATION:

1. Background

Section 135(c)(1) of the Trade Act of 1974, as amended (19 U.S.C. 2155(c)(1)), authorizes the President to establish individual general trade policy advisory committees for industry, labor, agriculture, services, investment, defense, small business, and other interests, as appropriate, to provide general policy advice. The President delegated that authority to the U.S. Trade Representative in Executive Order 11846, section 4(d), issued on March 27, 1975. Pursuant to these authorities, the United States Trade Representative intends to establish a new two-year charter term for the TEPAC which will end on September 30, 2027.

The TEPAC is a trade advisory committee established to provide policy advice to the United States Trade Representative on trade policy matters that have an impact on the environment. More specifically, the TEPAC provides policy advice on issues including: (1) negotiating objectives and bargaining positions before entering into trade agreements; (2) the environmental impact of the implementation of trade agreements; (3) matters concerning the operation of any trade agreement once entered into; (4) other matters arising in connection with the development, implementation, and administration of an America First Trade Policy.

The TEPAC meets as needed, at the call of the United States Trade Representative or his designee, or two-thirds of the TEPAC members, depending on various factors such as the level of activity of trade negotiations and the needs of the United States Trade Representative.

II. Membership

The TEPAC is composed of not more than 35 members, including, but not limited to, representatives from environmental interest groups, industry, agriculture, consumer groups, services, non-governmental organizations, and others with expertise in trade and environmental matters. The United States Trade Representative appoints all TEPAC members for a term of two years or until the TEPAC charter expires, and they serve at his discretion. Individuals can be reappointed for any number of terms. The United States Trade Representative makes appointments without regard to political affiliation. The USTR intends for the TEPAC to be broadly representative of key sectors and groups of the economy with an interest in trade and environmental policy issues.

TEPAC members serve without either compensation or reimbursement of expenses. Members are responsible for all expenses they incur to attend meetings or otherwise participate in TEPAC activities. Committee members must be able to obtain and maintain a security clearance or complete a background investigation and non-disclosure agreement in order to serve and have access to classified and trade sensitive documents. They must meet the eligibility requirements at the time of appointment and at all times during their term of service.

The United States Trade Representative appoints TEPAC members to represent their sponsoring U.S. entity's interests on trade and the environment, and thus USTR's foremost consideration for applicants is their ability to carry out the goals of section 135(c) of the Trade Act of 1974, as amended. Other criteria include the applicant's knowledge and expertise in international trade issues as relevant to the work of the TEPAC and USTR. USTR anticipates that almost all TEPAC members will serve in a representative capacity with a limited number serving in an individual capacity as subject matter expert. These members, known as special government employees, are subject to conflict-of-interest rules and will have to complete a financial disclosure report.

III. Request for Nominations

USTR is soliciting nominations for membership of the TEPAC. To apply for membership, an applicant must meet the following eligibility criteria:

1. The applicant must be a U.S. citizen.

2. The applicant cannot be a full-time employee of a U.S. governmental agency.

3. If serving in an individual capacity, the applicant cannot be a federally registered lobbyist.

4. The applicant cannot be registered with the U.S. Department of Justice under the Foreign Agents Registration Act.

5. The applicant must be able to obtain and maintain a security clearance or complete a background investigation and a non-disclosure agreement.

6. For representative members, who will comprise the overwhelming majority of the TEPAC, the applicant must represent a U.S. organization whose members (or funders) have a demonstrated interest in issues relevant to trade and the environment or have personal experience or expertise in trade and the environment.

7. For eligibility purposes, a “U.S. organization” is an organization established under the laws of the United States, that is controlled by U.S. citizens, by another U.S. organization (or organizations), or by a U.S. entity (or entities), determined based on its board of directors (or comparable governing body), membership, and funding sources, as applicable. To qualify as a U.S. organization, more than 50 percent of the board of directors (or comparable governing body) and more than 50 percent of the membership of the organization to be represented must be U.S. citizens, U.S. organizations, or U.S. entities. Additionally, at least 50 percent of the organization's annual revenue must be attributable to nongovernmental U.S. sources.

8. For members who will serve in an individual capacity, the applicant must possess subject matter expertise regarding international trade and environmental issues.

In order to be considered for TEPAC membership, interested persons should submit the following in one PDF document to MBX.USTR.IAPE@USTR.eop.gov.

• Name, title, affiliation, and contact information of the individual requesting consideration.

• A sponsor letter on the organization's letterhead containing a brief description of the manner in which international trade affects the organization and why USTR should consider the applicant for membership.

• The applicant's personal resume or comprehensive biography.

• An affirmative statement that the applicant and the organization he or she represents meet all eligibility criteria.

USTR will consider applicants who meet all the eligibility criteria based on the following factors:

• Ability to represent the sponsoring U.S. entity's or U.S. organization's and its subsector's interests on trade and environmental matters.

• Knowledge of and experience in trade and environmental matters relevant to the work of the TEPAC and USTR.

• How they will contribute to America First trade policies that create new opportunities and higher living standards for families, farmers, manufacturers, workers, and businesses.

Jennifer Bang,
Assistant U.S. Trade Representative for Intergovernmental Affairs and Public Engagement, Office of the United States Trade Representative.

[FR Doc. 2026-04246 Filed 3-3-26; 8:45 am]

BILLING CODE 3390-F4-P